SUSQUEHANNA RIVER BASIN COMMISSION

Grandfathering Registration Notice

AGENCY: Susquehanna River Basin Commission.

ACTION: Notice.

SUMMARY: This notice lists Grandfathering Registration for projects by the Susquehanna River Basin Commission during the period set forth in DATES.

DATES: April 1-30, 2022.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists GF Registration for projects, described below, pursuant to 18 CFR 806, Subpart E for the time period specified above:

Grandfathering Registration Under 18 CFR Part 806, Subpart E

1. Flatbush Golf Course, Inc.—Flatbush Golf Course, GF Certificate No. GF-202204213, Mount Pleasant and Union Townships, Adams County, Pa.; Wells 1, 2, and 3; Issue Date: April 28, 2022.

2. Irem Temple of the Ancient Arabic Order of the Nobles of the Mystic Shrine, Wilkes-Barre, Pennsylvania—Irem Country Club, GF Certificate No. GF-202204214, Dallas Township, Luzerne County, Pa.; combined withdrawal from Wells 1 and 2; Issue Date: April 28, 2022.

3. New Enterprise Stone & Lime Co., Inc.—Roaring Spring Quarry, GF Certificate No. GF 202204215, Taylor Township, Blair County, Pa.; Quarry Sump, Halter Creek 1, Halter Creek 2, Well 1, Well 2, and Well 3 (M4); Issue Date: April 28, 2022.

4. Pennsylvania—American Water Company—Philipsburg/Moshannon District, GF Certificate No. GF-202204216, Rush Township, Centre County, Pa.; Cold Stream, Blue Spring, Sandy Ridge Well 1, and Sandy Ridge Well 2; Issue Date: April 28, 2022.

Authority: Public Law 91-575, 84 Stat. 1509 et seq., 18 CFR parts 806 and 808.

Dated: May 6, 2022.
Jason E. Oyler,
General Counsel and Secretary to the Commission.

[FR Doc. 2022-10135 Filed 5-11-22; 8:45 am]

BILLING CODE 7040-01-P